NUCLEAR REGULATORY COMMISSION

[Docket No. NRC-2014-0105]

Agency Information Collection Activities: Proposed Collection; Comment Request

AGENCY: Nuclear Regulatory Commission.

ACTION: Notice of pending NRC action to submit an information collection request to the Office of Management and Budget (OMB) and solicitation of public comment.

SUMMARY: The U.S. Nuclear Regulatory Commission (NRC) invites public comment about our intention to request the OMB's approval for renewal of an existing information collection that is summarized below. We are required to publish this notice in the Federal Register under the provisions of the Paperwork Reduction Act of 1995 (44 U.S.C. Chapter 35).

Information pertaining to the requirement to be submitted:

1. The title of the information collection: NRC Form 445, “Request for Approval of Official Foreign Travel.”

2. Current OMB approval number: 3150-0193.

3. How often the collection is required: On occasion.

4. Who is required or asked to report: Non-Federal consultants, contractors and NRC's invited travelers (i.e., non-NRC employees).

5. The number of annual respondents: 20.

6. The number of hours needed annually to complete the requirement or request: 40 hours (2 hours per response).

7. Abstract: NRC Form 445, “Request for Approval of Foreign Travel,” is supplied by consultants, contractors, and NRC's invited travelers who must travel to foreign countries in the course of conducting business for the NRC. In accordance with 48 CFR part 20, “NRC Acquisition Regulation,” contractors traveling to foreign countries are required to complete this form. The information requested includes the name of the Office Director/Regional Administrator or Chairman, as appropriate, the traveler's identifying information, purpose of travel, listing of the trip coordinators, other NRC's travelers and contractors attending the same meeting, and a proposed itinerary. Revisions to NRC's Management Directives 14.1 and 5.13 require each traveler to obtain a briefing on the most recent status of the threat environment prior to travel, and to requisition government issued communication devices such as cell phones and laptops for use while travelling. These and other procedural changes necessitated a redesign of NRC Form 445.

Submit, by September 2, 2014, comments that address the following questions:

1. Is the proposed collection of information necessary for the NRC to properly perform its functions? Does the information have practical utility?

2. Is the burden estimate accurate?

3. Is there a way to enhance the quality, utility, and clarity of the information to be collected?

4. How can the burden of the information collection be minimized, including the use of automated collection techniques or other forms of information technology?

The public may examine and have copied for a fee, publicly-available documents, including the draft supporting statement, at the NRC's Public Document Room, Room O-1F21, One White Flint North, 11555 Rockville Pike, Rockville, Maryland 20852. The OMB clearance requests are available at the NRC's Web site: http://www.nrc.gov/public-involve/doc-comment/omb/. The document will be available on the NRC's home page site for 60 days after the signature date of this notice.

Comments submitted in writing or in electronic form will be made available for public inspection. Because your comments will not be edited to remove any identifying or contact information, the NRC cautions you against including any information in your submission that you do not want to be publicly disclosed. Comments submitted should reference Docket No. NRC-2014-0105. You may submit your comments by any of the following methods. Electronic comments go to http://www.regulations.gov and search for Docket No. NRC-2014-0105. Mail comments to the Acting NRC Clearance Officer, Brenda Miles (T-5 F53), U.S. Nuclear Regulatory Commission, Washington, DC 20555-0001.

Questions about the information collection requirements may be directed to the Acting NRC Clearance Officer, Brenda Miles (T-5 F53), U.S. Nuclear Regulatory Commission, Washington, DC 20555-0001; telephone: 301-415-7884, or by email to INFOCOLLECTS.Resource@NRC.GOV.

Dated at Rockville, Maryland, this 26th day of June, 2014.
For the Nuclear Regulatory Commission.
Brenda Miles,
Acting NRC Clearance Officer, Office of Information Services.

[FR Doc. 2014-15445 Filed 7-1-14; 8:45 am]

BILLING CODE 7590-01-P